DEPARTMENT OF TRANSPORTATION

Federal Aviation Administration

14 CFR Part 71

[Docket No. FAA-2020-0294; Airspace Docket No. 20-AGL-8]

RIN 2120-AA66

Amendment of Area Navigation (RNAV) Route T-354; Northcentral United States.

AGENCY: Federal Aviation Administration (FAA), DOT.

ACTION: Final rule.

SUMMARY: This action modifies Area Navigation (RNAV) route T-354 in the northcentral United States. The modified T-route expands the availability of RNAV routing in support of the FAA's Next Generation Air Transportation System (NextGen) modernization efforts to transition the National Airspace System (NAS) from a ground-based to satellite-based Performance Based Navigation (PBN) system.

The RNAV route T-325 modifications proposed in the notice of proposed rulemaking (NPRM) require additional coordination and flight inspection activities. As such, the T-325 modifications are removed from this rule.

DATES: Effective date 0901 UTC, November 5, 2020. The Director of the Federal Register approves this incorporation by reference action under Title 1 Code of Federal Regulations part 51, subject to the annual revision of FAA Order 7400.11 and publication of conforming amendments.

ADDRESSES: FAA Order 7400.11D, Airspace Designations and Reporting Points, and subsequent amendments can be viewed online at https://www.faa.gov/air_traffic/publications/. For further information, you can contact the Rules and Regulations Group, Federal Aviation Administration, 800 Independence Avenue SW, Washington, DC 20591; telephone: (202) 267-8783. The Order is also available for inspection at the National Archives and Records Administration (NARA). For information on the availability of FAA Order 7400.11D at NARA, email: fedreg.legal@nara.gov or go to https://www.archives.gov/federal-register/cfr/ibr-locations.html.

FOR FURTHER INFORMATION CONTACT: Colby Abbott, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies the route structure as necessary to preserve the safe and efficient flow of air traffic within the National Airspace System.

History

The FAA published a NPRM for Docket No. FAA-2020-0294 in the Federal Register (85 FR 22047; April 21, 2020), amending RNAV routes T-325 and T-354 to expand the availability of RNAV routing in support of NextGen efforts to transition the NAS from a ground-based to satellite-based PBN system. Interested parties were invited to participate in this rulemaking effort by submitting written comments on the proposal. No comments were received.

Subsequent to the NPRM, the FAA published a rule for Docket No. FAA-2019-1105 in the Federal Register (85 FR 38785; June 29, 2020), amending RNAV route T-354 by changing the Siren, WI (RZN), route point listed as a VOR/Distance Measuring Equipment (“VOR/DME”) to “DME”. That airway amendment, effective September 10, 2020, is included in this rule.

Additionally, subsequent to the NPRM, the FAA determined the RNAV route T-325 modifications proposed in the NPRM require additional coordination and flight inspection activities. As a result, the T-325 modifications are removed from this rule and will be reworked in a separate rulemaking action.

United States RNAV T-routes are published in paragraph 6011 of FAA Order 7400.11D, dated August 8, 2019, and effective September 15, 2019, which is incorporated by reference in 14 CFR 71.1. The RNAV route listed in this document will be subsequently published in the Order.

Availability and Summary of Documents for Incorporation by Reference

This document amends FAA Order 7400.11D, Airspace Designations and Reporting Points, dated August 8, 2019, and effective September 15, 2019. FAA Order 7400.11D is publicly available as listed in the ADDRESSES section of this document. FAA Order 7400.11D lists Class A, B, C, D, and E airspace areas, air traffic service routes, and reporting points.

The Rule

The FAA is amending Title 14 Code of Federal Regulations (14 CFR) part 71 to modify RNAV route T-354. The RNAV route change is described below.

T-354: T-354 extends between the Park Rapids, MN, VOR/DME and the Siren, WI, DME. The Siren DME is removed and replaced with the SSKYY, WI, waypoint (WP) (located over the Siren DME), and the route is extended southeastward from the SSKYY, WI, WP to the Cunningham, KY, VOR/DME. The following points are added between the SSKYY WP and the Cunningham VOR/DME: TONOC, WI, FIX; KOETZ, WI, WP; HRMNN, WI, WP; FOMAG, WI, WP; MAYSE, WI, WP; HOMRC, IL, WP; CPTON, IL, WP; BLLUE, IL, WP; BOSTN, IL, WP; and the Bible Grove, IL, VORTAC. The unaffected segments of the existing route remain as charted.

FAA Order 7400.11, Airspace Designations and Reporting Points, is published yearly and effective on September 15.

Regulatory Notices and Analyses

The FAA has determined that this regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action of modifying RNAV route T-354 to expand the availability of RNAV routing in support of NextGen modernization efforts to transition the NAS from a ground-based to satellite-based PBN system qualifies for categorical exclusion under the National Environmental Policy Act and its implementing regulations at 40 CFR part 1500, and in accordance with FAA Order 1050.1F, Environmental Impacts: Policies and Procedures, paragraph 5-6.5a, which categorically excludes from further environmental impact review rulemaking actions that designate or modify classes of airspace areas, airways, routes, and reporting points (see 14 CFR part 71, Designation of Class A, B, C, D, and E Airspace Areas; Air Traffic Service Routes; and Reporting Points). As such, this action is not expected to result in any potentially significant environmental impacts. In accordance with FAA Order 1050.1F, paragraph 5-2 regarding Extraordinary Circumstances, the FAA has reviewed this action for factors and circumstances in which a normally categorically excluded action may have a significant environmental impact requiring further analysis. The FAA has determined that no extraordinary circumstances exist that warrant preparation of an environmental assessment or environmental impact study.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11D, Airspace Designations and Reporting Points, dated August 8, 2019 and effective September 15, 2019, is amended as follows:

Paragraph 6011 United States Area Navigation Routes.

* * * * *

T-354 Park Rapids, MN (PKD) to Cunningham, KY (CNG) [Amended]
Park Rapids, MN (PKD) | VOR/DME | (Lat. 46°53′53.34″ N., long. 095°04′15.21″ W.)
BRNRD, MN | WP | (Lat. 46°20′53.81″ N., long. 094°01′33.54″ W.)
SSKYY, WI | WP | (Lat. 45°49′13.60″ N., long. 092°22′28.26″ W.)
TONOC, WI | FIX | (Lat. 45°03′47.56″ N., long. 091°38′11.87″ W.)
KOETZ, WI | WP | (Lat. 44°13′15.00″ N., long. 091°28′14.00″ W.)
HRMNN, WI | WP | (Lat. 43°55′32.51″ N., long. 090°58′04.07″ W.)
FOMAG, WI | WP | (Lat. 43°29′38.44″ N., long. 089°46′09.53″ W.)
MAYSE, WI | WP | (Lat. 43°10′14.18″ N., long. 089°42′46.52″ W.)
HOMRC, IL | WP | (Lat. 41°34′04.67″ N., long. 089°30′20.55″ W.)
CPTON, IL | WP | (Lat. 41°06′51.57″ N., long. 089°11′58.93″ W.)
BLLUE, IL | WP | (Lat. 40°07′09.20″ N., long. 088°32′45.48″ W.)
BOSTN, IL | WP | (Lat. 39°53′46.57″ N., long. 088°26′18.96″ W.)
Bible Grove, IL (BIB) | VORTAC | (Lat. 38°55′13.24″ N., long. 088°28′54.50″ W.)
Cunningham, KY (CNG) | VOR/DME | (Lat. 37°00′30.99″ N., long. 088°50′12.89″ W.)

* * * * *

Issued in Washington, DC, on August 13, 2020.
Scott M. Rosenbloom,
Acting Manager, Rules and Regulations Group.

[FR Doc. 2020-18252 Filed 8-19-20; 8:45 am]

BILLING CODE 4910-13-P